DEPARTMENT OF ENERGY

Federal Energy Regulatory Commission

Combined Notice of Filings #2

Take notice that the Commission received the following electric corporate filings:

Docket Numbers: EC17-86-000.

Applicants: Green Mountain Power Corporation, Vermont Transco LLC.

Description: Application for Authorization Under Section 203 of the Federal Power Act and Request for Expedited Review of Green Mountain Power Corporation, et al.

Filed Date: 3/1/17.

Accession Number: 20170301-5353.

Comments Due: 5 p.m. ET 3/22/17.

Take notice that the Commission received the following electric rate filings:

Docket Numbers: ER17-242-001; ER17-243-001; ER17-245-001; ER17-256-001; ER17-652-001.

Applicants: Darby Power, LLC, Gavin Power, LLC, Lawrenceburg Power, LLC, Waterford Power, LLC, Lightstone Marketing LLC.

Description: Notice of Non-Material Change in Status of Darby Power, LLC, et. al.

Filed Date: 3/1/17.

Accession Number: 20170301-5354.

Comments Due: 5 p.m. ET 3/22/17.

Docket Numbers: ER17-419-001.

Applicants: American Electric Power Service Corporation, PJM Interconnection, L.L.C.

Description: Compliance filing: Transource PA and MD submit Compliance Filing per 1/31/17 Order to be effective 2/1/2017.

Filed Date: 3/2/17.

Accession Number: 20170302-5095.

Comments Due: 5 p.m. ET 3/23/17.

Docket Numbers: ER17-1025-001.

Applicants: Cedar Point Wind, LLC.

Description: Tariff Amendment: Recollation Amendment Filing CPW to be effective 2/24/2017.

Filed Date: 3/2/17.

Accession Number: 20170302-5104.

Comments Due: 5 p.m. ET 3/23/17.

Docket Numbers: ER17-1026-001.

Applicants: Silver State Solar Power North, LLC.

Description: Tariff Amendment: Recollation Amendment SSN to be effective 2/24/2017.

Filed Date: 3/2/17.

Accession Number: 20170302-5103.

Comments Due: 5 p.m. ET 3/23/17.

Docket Numbers: ER17-1088-000.

Applicants: Baconton Power LLC.

Description: § 205(d) Rate Filing: Request for Category 1 Seller Status to be effective 3/3/2017.

Filed Date: 3/2/17.

Accession Number: 20170302-5084.

Comments Due: 5 p.m. ET 3/23/17.

Docket Numbers: ER17-1089-000.

Applicants: Southern California Edison Company.

Description: § 205(d) Rate Filing: Amendment to the Mojave Solar Radial Lines Agreement to be effective 3/3/2017.

Filed Date: 3/2/17.

Accession Number: 20170302-5085.

Comments Due: 5 p.m. ET 3/23/17.

Docket Numbers: ER17-1090-000.

Applicants: Duke Energy Indiana, LLC.

Description: § 205(d) Rate Filing: 2017 Annual Reconciliation Filing RS No. 253 to be effective 7/1/2016.

Filed Date: 3/2/17.

Accession Number: 20170302-5102.

Comments Due: 5 p.m. ET 3/23/17.

Docket Numbers: ER17-1091-000.

Applicants: PacifiCorp.

Description: § 205(d) Rate Filing: Lehi City Construction Agreement Spring Creek to be effective 5/2/2017.

Filed Date: 3/2/17.

Accession Number: 20170302-5154.

Comments Due: 5 p.m. ET 3/23/17.

Take notice that the Commission received the following public utility holding company filings:

Docket Numbers: PH17-11-000.

Applicants: Enbridge Inc.

Description: Enbridge Inc. submits FERC 65-A Waiver Notification and Notice of Material Change in Facts.

Filed Date: 3/2/17.

Accession Number: 20170302-5099.

Comments Due: 5 p.m. ET 3/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2017.
Nathaniel J. Davis, Sr.,
Deputy Secretary.

[FR Doc. 2017-04535 Filed 3-7-17; 8:45 am]

BILLING CODE 6717-01-P